DEPARTMENT OF LABOR

Office of the Secretary

Submission for OMB Review; Comment Request

November 3, 2006.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. A copy of this ICR, with applicable supporting documentation, may be obtained at http://www.reginfo.gov/public/do/PRAMain, or contact Ira Mills on 202-693-4122 (this is not a toll-free number) or E-Mail: Mills.Ira@dol.gov.

Comments should be sent to Office of Information and Regulatory Affairs, Attn: OMB Desk Officer for U.S. Department of Labor/Employment and Training Administration (ETA), Office of Management and Budget, Room 10235, Washington, DC 20503, 202-395-7316 (this is not a toll free number), within 45 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submission of responses.

Agency: Employment and Training Administration.

Type of Review: Extension.

Title: Project GATE.

OMB Number: 1205—0444.

Frequency: Once.

Affected Public: Individuals or households.

Type of Response: Reporting.

Number of Respondents: 400.

Annual Responses: 400.

Average Response Time: 40 minutes.

Total Annual Burden Hours: 267.

Total Annualized Capital/Startup Costs: 0.

Total Annual Costs (operating/maintaining systems or purchasing services): 0.

Description: Approval is sought for an extension to complete the follow-up survey to be conducted as part of Project GATE. Project GATE is a demonstration program designed to assist individuals interested in self-employment to develop their businesses. To determine whether the program should be replicated on a larger scale, an evaluation is being conducted. Persons interested in Project GATE and who meet the eligibility criteria are randomly assigned to either a program or a control group. Members of both groups are surveyed twice. A survey is the only way to collect information on self-employment services, and household income.

Ira L. Mills,
Departmental Clearance Officer/Team Leader.

[FR Doc. E6-18861 Filed 11-7-06; 8:45 am]

BILLING CODE 4510-30-P